DEPARTMENT OF HOMELAND SECURITY

Coast Guard

[Docket No. USCG-2012-0298]

Cooperative Research and Development Agreement: Federally Integrated Communications System

AGENCY: Coast Guard, DHS.

ACTION: Notice of intent; request for public comments.

SUMMARY: The Coast Guard is announcing its intent to enter into a Cooperative Research and Development Agreement (CRADA) with General Dynamics C4 Systems, Inc. to lab demonstrate, field test, evaluate, and document at least one technical approach to show interoperability, with end-to-end encryption, for disparate Federal communications systems at the Internet Protocol level. The Coast Guard invites public comment on the proposed CRADA, and also invites other potential non-Federal participants, who have the interest and capability to bring similar contributions to this type of research, to consider submitting proposals for consideration in similar CRADAs.

DATES: Comments and related material on the proposed CRADA must either be submitted to our online docket via http://www.regulations.gov on or before May 30, 2012, or reach the Docket Management Facility by that date.

Notifications from parties interested in participating as a non-Federal participant in a CRADA similar to the one described in this notice must reach the Docket Management Facility on or before May 30, 2012.

ADDRESSES: You may submit written comments on this notice identified by docket number USCG-2012-0298 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this notice, contact Ms. Octavia Ashburn, U.S. Coast Guard Research and Development Center, 1 Chelsea Street, New London, CT 06320, telephone: 860-271-2882, email: Octavia.D.Ashburn@uscg.mil. If you have questions on viewing or submitting material to the docket, call Ms. Renee V. Wright, Program Manager, Docket Operations, telephone (202) 366-9826.

SUPPLEMENTARY INFORMATION:

Public Participation and Request for Comments

We encourage you to submit comments and related material on this notice. All comments received will be posted, without change, to http://www.regulations.gov and will include any personal information you have provided.

Do not submit detailed proposals for future CRADAs to the Docket Management Facility. Potential non-Federal CRADA participants should submit these documents to Ms. Octavia Ashburn, U.S. Coast Guard Research and Development Center, 1 Chelsea Street, New London, CT 06320 (email Octavia.D.Ashburn@uscg.mil).

Submitting Comments

If you submit a comment, please include the docket number for this notice (USCG-2012-0298), and provide a reason for each suggestion or recommendation. You may submit your comments and material online via http://www.regulations.gov, or by fax, mail, or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov and type “USCG-2012-0298” in the “Keyword” box. If you submit your comments by mail or hand delivery, submit them in an unbound format, no larger than 8½ by 11 inches, suitable for copying and electronic filing. If you submit comments by mail and would like to know that they reached the Facility, please enclose a stamped, self-addressed postcard or envelope. We will consider all comments and material received during the comment period.

Viewing Comments and Related Material

To view the comments and related material, go to http://www.regulations.gov, click on the “read comments” box, which will then become highlighted in blue. In the “Keyword” box, insert “USCG-2012-0298” and click “Search.” Click the “Open Docket Folder” in the “Actions” column. If you do not have access to the Internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act, system of records notice regarding our public dockets in the January 17, 2008, issue of the Federal Register (73 FR 3316).

Cooperative Research and Development Agreements

Cooperative Research and Development Agreements (CRADAs), are authorized by the Federal Technology Transfer Act of 1986 (Pub. L. 99-502, codified at 15 U.S.C. 3710(a)). A CRADA promotes the transfer of technology to the private sector for commercial use as well as specified research or development efforts that are consistent with the mission of the Federal parties to the CRADA. The Federal party or parties agree with one or more non-Federal parties to share research resources, but the Federal party does not contribute funding. The Department of Homeland Security (DHS), as an executive agency under 5 U.S.C. 105, is a Federal agency for purposes of 15 U.S.C. 3710(a) and may enter into a CRADA. The Secretary of DHS (Secretary) delegated authority to the Commandant of the Coast Guard to carry out the functions vested in the Secretary by section 2 of the Federal Technology Transfer Act of 1986, which authorizes agencies to permit their laboratories to enter into CRADAs (see DHS Delegation No. 0160.1, para. 2.B(34)). The Commandant of the Coast Guard has delegated authority in this regard to the Coast Guard's Research and Development Center (RDC).

CRADAs are not procurement contracts. Care is taken to ensure that CRADAs are not used to circumvent the contracting process. CRADAs have a specific purpose and should not be confused with other types of agreements such as procurement contracts, grants, and cooperative agreements.

Goal of Proposed CRADA

Under the proposed CRADA, the Coast Guard's RDC would collaborate with non-Federal participants. Together, the RDC and the non-Federal participants would conduct lab demonstrations, field tests and evaluations, and document at least one technical approach to show interoperability, with end-to-end encryption, for disparate communications systems at the Internet Protocol (IP) level. The systems will be comprised of the current Coast Guard Rescue 21 (R21 or Rescue 21) conventional Land Mobile Radio (LMR) network and a Federal wireless system partner. This integrated communications system should provide for interoperability among the different Federal agency heterogeneous radio systems, without changing the functionality of each existing system.

We anticipate that the Coast Guard's contributions under the proposed CRADA will include the following:

(1) Support network architecture and security discussions on the work to be accomplished under the CRADA;

(2) Lead the development of the test objectives and test plan for the specific work to be accomplished under the CRADA;

(3) Facilitate interactions between USCG, the non-Federal participants, and a Federal wireless system partner to gain approval for support during the test period of the CRADA test plan;

(4) Provide Coast Guard resources, and conduct the field test and evaluation in accordance with the CRADA test plan; and

(5) Develop the CRADA Final Report, which documents the methodologies, findings, conclusions, and recommendations of this CRADA work.

We anticipate that the non-Federal participants' contributions under the proposed CRADA will include the following:

(1) Provide an R21 gateway to work with current Commercial Off-the-Shelf configuration used during this CRADA investigation;

(2) Provide an Inter Subsystem Interface (ISSI) Gateway to work with a Federal wireless system partner interface;

(3) Test the R21 gateway with R21 system in lab demonstration;

(4) Test the Federal wireless system partner gateway in lab demonstration;

(5) Conduct system level test for both gateways in lab demonstration;

(6) Develop configuration process to execute field test and evaluation;

(7) Provide input into the Coast Guard-developed, CRADA test objectives and CRADA test plan;

(8) Provide equipment and software, and participate in equipment installation and training for field test and evaluation;

(9) Following field test and evaluation, remove equipment and software and restore to R21 original configuration;

(10) Provide technical report describing system configuration and system performance of equipment and gateway;

(11) Provide input into the Coast Guard-developed, CRADA Final Report.

Selection Criteria

The Coast Guard reserves the right to select for CRADA participants all, some, or none of the proposals in response to this notice. The Coast Guard will provide no funding for reimbursement of proposal development costs. Proposals (or any other material) submitted in response to this notice will not be returned. Proposals submitted are expected to be unclassified and have no more than four single-sided pages (excluding cover page and resumes). The Coast Guard will select proposals at its sole discretion on the basis of:

(1) How well they communicate an understanding of, and ability to meet, the proposed CRADA's goal; and

(2) How well they address the following criteria:

(a) Technical capability to support the non-Federal party contributions described; and

(b) Resources available for supporting the non-Federal party contributions described.

Currently, the Coast Guard is considering General Dynamics for participation in this CRADA. This consideration is based on: (1) General Dynamics' expertise, experience, and interest with the design, development, maintenance, and operations of the Coast Guard's Rescue 21 system; (2) General Dynamics' capability to provide the significant contributions required for the CRADA work; and (3) the Coast Guard's Rescue 21 system, which includes a General Dynamics product containing restricted rights software code. However, we do not wish to exclude other viable participants from this or future similar CRADAs.

This is a technology transfer/development effort. Presently, the Coast Guard has no plan to procure a new LMR network. The goal of this CRADA is to conduct lab demonstrations, field tests and evaluations, and to document at least one technical approach to show interoperability, with end-to-end encryption, for disparate communications systems at the Internet Protocol (IP) level, and not to set future Coast Guard acquisition requirements for the same. Therefore, non-Federal CRADA participants will not be excluded from any future Coast Guard procurements based solely on their participation in this CRADA.

Special consideration will be given to small business firms/consortia, and preference will be given to business units located in the U.S.

Authority

This notice is issued under the authority of 15 U.S.C. 3710(a), 5 U.S.C. 552(a), and 33 CFR 1.05-1.

Dated: April 19, 2012.
Alan N. Arsenault,
Commanding Officer, U.S. Coast Guard Research and Development Center.

[FR Doc. 2012-10320 Filed 4-27-12; 8:45 am]

BILLING CODE 9110-04-P